DEPARTMENT OF TRANSPORTATION

Federal Aviation Administration

14 CFR Part 97

[Docket No. 30736; Amdt. No. 3384]

Standard Instrument Approach Procedures, and Takeoff Minimums and Obstacle Departure Procedures; Miscellaneous Amendments

AGENCY: Federal Aviation Administration (FAA), DOT.

ACTION: Final Rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 2, 2010. The compliance date for each SIAP, associated Takeoff Minimums, and ODP is specified in the amendatory provisions.

The incorporation by reference of certain publications listed in the regulations is approved by the Director of the Federal Register as of August 2, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on July 23, 2010.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 26 AUG 2010

Troy, AL, Troy Muni, Radar-1, Amdt 9

Smithfield, NC, Johnston County, ILS OR LOC RWY 3, Amdt 1

Smithfield, NC, Johnston County, NDB RWY 3, Amdt 1

Smithfield, NC, Johnston County, RNAV (GPS) RWY 3, Orig

Smithfield, NC, Johnston County, RNAV (GPS) RWY 21, Orig

Smithfield, NC, Johnston County, Takeoff Minimums and Obstacle DP, Amdt 3

Charleston, SC, Charleston Executive, RNAV (GPS) RWY 9, Amdt 1

Charleston, SC, Charleston Executive, RNAV (GPS) RWY 27, Amdt 1

Charleston, SC, Charleston Executive, Takeoff Minimums and Obstacle DP, Amdt 1

San Angelo, TX, San Angelo Rgnl/Mathis Fld, Takeoff Minimums and Obstacle DP, Amdt 1

Effective 23 SEP 2010

Alabaster, AL, Shelby County, RNAV (GPS) RWY 16, Amdt 1

Alabaster, AL, Shelby County, RNAV (GPS) RWY 34, Amdt 2

Mammoth Lakes, CA, Mammoth Yosemite, Takeoff Minimums and Obstacle DP, Amdt 1

Sacramento, CA, Sacramento Mather, ILS OR LOC/DME RWY 22L, Amdt 5

Gunnison, CO, Gunnison-Crested Butte Rgnl, RNAV (RNP) RWY 24, Orig

Milton, FL, Peter Prince Field, RNAV (GPS) RWY 36, Amdt 1

Augusta, GA, Daniel Field, NDB RWY 11, Amdt 4

Augusta, GA, Daniel Field, NDB/DME-C, Amdt 4

Augusta, GA, Daniel Field, RNAV (GPS) RWY 11, Orig

Augusta, GA, Daniel Field, VOR/DME-B, Amdt 1

Augusta, GA, Daniel Field, VOR/DME RNAV RWY 11, Amdt 5B, CANCELLED

Bainbridge, GA, Decatur County Industrial Air Park, ILS OR LOC RWY 27, Orig-A

Cairo, GA, Cairo-Grady County, Takeoff Minimums and Obstacle DP, Amdt 3

Cochran, GA, Cochran, RNAV (GPS) RWY 29, Amdt 1

Macon, GA, Middle Georgia Rgnl, RNAV (GPS) RWY 23, Amdt 1

Savannah, GA, Savannah/Hilton Head Intl, RNAV (RNP) Y RWY 28, Orig

St Mary's, GA, St Mary's, RADAR-1, Amdt 2, CANCELLED

St Mary's, GA, St Mary's, RNAV (GPS) RWY 4, Orig

Thomasville, GA, Thomasville Rgnl, ILS OR LOC RWY 22, Orig-A

Harlan, IA, Harlan Muni, Takeoff Minimums and Obstacle DP, Amdt 1

Marshalltown, IA, Marshalltown Muni, GPS RWY 12, Orig-B, CANCELLED

Marshalltown, IA, Marshalltown Muni, RNAV (GPS) RWY 13, Orig

Marshalltown, IA, Marshalltown Muni, RNAV (GPS) RWY 31, Orig

Marshalltown, IA, Marshalltown Muni, Takeoff Minimum and Obstacle DP, Orig

Marshalltown, IA, Marshalltown Muni, VOR RWY 13, Amdt 2

Marshalltown, IA, Marshalltown Muni, VOR RWY 31, Amdt 2

Mount Pleasant, IA, Mount Pleasant, NDB RWY 33, Amdt 6

Mount Pleasant, IA, Mount Pleasant, RNAV (GPS) RWY 15, Orig

Mount Pleasant, IA, Mount Pleasant, RNAV (GPS) RWY 33, Orig

Mount Pleasant, IA, Mount Pleasant, Takeoff Minimums and Obstacle DP, Amdt 2

Champaign/Urbana, IL, University of Illinois-Willard, RNAV (GPS) RWY 4, Orig-A

Decatur, IL, Decatur, GPS RWY 30, Amdt 1, CANCELLED

Decatur, IL, Decatur, ILS OR LOC RWY 6, Amdt 13E

Decatur, IL, Decatur, RNAV (GPS) RWY 6, Orig-A

Decatur, IL, Decatur, RNAV (GPS) RWY 30, Orig

Decatur, IL, Decatur, RNAV (GPS) RWY 36, Orig-A

Decatur, IL, Decatur, VOR RWY 18, Orig-B

Mattoon/Charleston, IL, Coles County Memorial, ILS OR LOC RWY 29, Amdt 6B

Hays, KS, Hays Rgnl, GPS RWY 16, Orig-D, CANCELLED

Hays, KS, Hays Rgnl, RNAV (GPS) RWY 4, Orig

Hays, KS, Hays Rgnl, RNAV (GPS) RWY 16, Orig

Hays, KS, Hays Rgnl, RNAV (GPS) RWY 22, Orig

Hays, KS, Hays Rgnl, RNAV (GPS) RWY 34, Amdt 2

Manhattan, KS, Manhattan Rgnl, ILS OR LOC/DME RWY 3, Amdt 7

Manhattan, KS, Manhattan Rgnl, RNAV (GPS) RWY 3, Amdt 1

Manhattan, KS, Manhattan Rgnl, RNAV (GPS) RWY 21, Amdt 1

Manhattan, KS, Manhattan Rgnl, Takeoff Minimums and Obstacle DP, Amdt 7

Manhattan, KS, Manhattan Rgnl, VOR RWY 3, Amdt 18

Manhattan, KS, Manhattan Rgnl, VOR/DME-F, Amdt 1

Manhattan, KS, Manhattan Rgnl, VOR-H, Amdt 14B, CANCELLED

Wichita, KS, Wichita Mid Continent, RNAV (GPS) Y RWY 1L, Amdt 1

Wichita, KS, Wichita Mid Continent, RNAV (GPS) Y RWY 14, Amdt 2

Wichita, KS, Wichita Mid Continent, RNAV (GPS) Y RWY 19L, Amdt 1

Wichita, KS, Wichita Mid Continent, RNAV (GPS) Y RWY 19R, Amdt 1

Wichita, KS, Wichita Mid Continent, RNAV (GPS) Z RWY 1L, Orig-A, CANCELLED

Wichita, KS, Wichita Mid Continent, RNAV (GPS) Z RWY 19L, Orig-B, CANCELLED

Wichita, KS, Wichita Mid Continent, RNAV (RNP) Z RWY 1L, Orig

Wichita, KS, Wichita Mid Continent, RNAV (RNP) Z RWY 14, Orig

Wichita, KS, Wichita Mid Continent, RNAV (RNP) Z RWY 19L, Orig

Wichita, KS, Wichita Mid Continent, RNAV (RNP) Z RWY 19R, Orig

Old Town, ME, Dewitt Fld Old Town Muni, GPS RWY 12, Orig, CANCELLED

Old Town, ME, Dewitt Fld Old Town Muni, GPS RWY 30, Orig, CANCELLED

Old Town, ME, Dewitt Fld Old Town Muni, NDB RWY 22, Amdt 6

Old Town, ME, Dewitt Fld Old Town Muni, RNAV (GPS) RWY 12, Orig

Old Town, ME, Dewitt Fld Old Town Muni, RNAV (GPS) RWY 22, Orig

Old Town, ME, Dewitt Fld Old Town Muni, RNAV (GPS) RWY 30, Orig

Detroit, MI, Willow Run, RNAV (GPS) RWY 5R, Amdt 1

Litchfield, MN, Litchfield Muni, RNAV (GPS) RWY 13, Orig

Litchfield, MN, Litchfield Muni, RNAV (GPS) RWY 31, Orig

Litchfield, MN, Litchfield Muni, Takeoff Minimums and Obstacle DP, Amdt 1

Litchfield, MN, Litchfield Muni, VOR-A, Amdt 2

Litchfield, MN, Litchfield Muni, VOR/DME RNAV OR GPS RWY 31, Amdt 1, CANCELLED

Camdenton, MO, Camdenton Memorial, GPS RWY 33, Orig-B, CANCELLED

Camdenton, MO, Camdenton Memorial, RNAV (GPS) RWY 15, Orig

Camdenton, MO, Camdenton Memorial, RNAV (GPS) RWY 33, Orig

Camdenton, MO, Camdenton Memorial, Takeoff Minimum and Obstacle DP, Amdt 1

Camdenton, MO, Camdenton Memorial, VOR-A, Amdt 4

Cuba, MO, Cuba Muni, NDB-A, Orig, CANCELLED

Farmington, MO, Farmington Rgnl, GPS RWY 2, Orig, CANCELLED

Farmington, MO, Farmington Rgnl, NDB RWY 20, Amdt 3

Farmington, MO, Farmington Rgnl, RNAV (GPS) RWY 2, Orig

Farmington, MO, Farmington Rgnl, RNAV (GPS) RWY 20, Orig

Monett, MO, Monett Muni, RNAV (GPS) RWY 18, Amdt 2

Monett, MO, Monett Muni, RNAV (GPS) RWY 36, Amdt 2

Monett, MO, Monett Muni, Takeoff Minimums and Obstacle DP, Amdt 1

Nevada, MO, Nevada Muni, NDB RWY 20, Amdt 2, CANCELLED

Nevada, MO, Nevada Muni, RNAV (GPS) RWY 2, Orig

Nevada, MO, Nevada Muni, RNAV (GPS) RWY 20, Orig

Nevada, MO, Nevada Muni, Takeoff Minimums and Obstacle DP, Orig

Nevada, MO, Nevada Muni, VOR/DME-A, Amdt 2

Nevada, MO, Nevada Muni, VOR/DME RNAV OR GPS RWY 20, Amdt 1, CANCELLED

Booneville/Baldwyn, MS, Booneville/Baldwyn, GPS RWY 33, Orig, CANCELLED

Booneville/Baldwyn, MS, Booneville/Baldwyn, RNAV (GPS) RWY 15, Orig

Booneville/Baldwyn, MS, Booneville/Baldwyn, RNAV (GPS) RWY 33, Orig

Booneville/Baldwyn, MS, Booneville/Baldwyn, VOR/DME-A, Amdt 1

Jackson, MS, Hawkins Field, Takeoff Minimum and Obstacle DP, Amdt 1

Louisville, MS, Louisville-Winston County, GPS RWY 17, Orig, CANCELLED

Louisville, MS, Louisville-Winston County, RNAV (GPS) RWY 17, Orig

Louisville, MS, Louisville-Winston County, RNAV (GPS) RWY 35, Orig

Starksville, MS, George M Bryan, RNAV (GPS) RWY 18, Amdt 1

Starksville, MS, George M Bryan, RNAV (GPS) RWY 36, Amdt 2

Starksville, MS, George M Bryan, VOR/DME-A, Amdt 6, CANCELLED

Bozeman, MT, Gallatin Field, BOZEMAN THREE Graphic Obstacle DP

Poplar, MT, Poplar Muni, RNAV (GPS) RWY 27, Orig

Poplar, MT, Poplar Muni, Takeoff Minimums and Obstacle DP, Orig

Poplar, MT, Poplar, RNAV (GPS) RWY 9, Amdt 1, CANCELLED

Poplar, MT, Poplar, RNAV (GPS) RWY 27, Orig-A, CANCELLED

Poplar, MT, Poplar, Takeoff Minimums and Obstacle DP, Orig, CANCELLED

Albemarle, NC, Stanly County, ILS OR LOC RWY 22L, Amdt 1A

Greensboro, NC, Piedmont Triad Intl, RNAV (GPS) RWY 14, Amdt 2

Greensboro, NC, Piedmont Triad Intl, RNAV (GPS) RWY 32, Amdt 2

Rutherfordton, NC, Rutherford Co-Marchman Field, RNAV (GPS) RWY 1, Amdt 1

Rutherfordton, NC, Rutherford Co-Marchman Field, RNAV (GPS) RWY 19, Orig

Minden, NE, Pioneer Village Field, Takeoff Minimums and Obstacle DP, Amdt 2

Atlantic City, NJ, Atlantic City Intl, RNAV (GPS) Y RWY 13, Amdt 4

Atlantic City, NJ, Atlantic City Intl, RNAV (GPS) Y RWY 31, Amdt 3

Atlantic City, NJ, Atlantic City Intl, RNAV (RNP) Z RWY 13, Orig

Atlantic City, NJ, Atlantic City Intl, RNAV (RNP) Z RWY 31, Orig

Carson City, NV, Carson, JIMPA TWO Graphic Obstacle DP

Johnstown, NY, Fulton County, GPS RWY 10, Orig, CANCELLED

Johnstown, NY, Fulton County, GPS RWY 28, Orig, CANCELLED

Johnstown, NY, Fulton County, NDB RWY 10, Amdt 2

Johnstown, NY, Fulton County, NDB RWY 28, Amdt 2

Johnstown, NY, Fulton County, RNAV (GPS) RWY 10, Orig

Johnstown, NY, Fulton County, RNAV (GPS) RWY 28, Orig

Johnstown, NY, Fulton County, Takeoff Minimums and Obstacle DP, Amdt 2

Urbana, OH, Grimes Field, RNAV (GPS) RWY 2, Amdt 1

Urbana, OH, Grimes Field, RNAV (GPS) RWY 20, Amdt 1

Blackwell, OK, Blackwell-Tonkawa Muni, Takeoff Minimums and Obstacle DP, Orig

Duncan, OK, Halliburton Field, Takeoff Minimums and Obstacle DP, Amdt 1

Frederick, OK, Frederick Rgnl, Takeoff Minimums and Obstacle DP, Orig

Oklahoma City, OK, Will Rodgers World, RNAV (GPS) Y RWY 35R, Amdt 1

Pauls Valley, OK, Pauls Valley Muni, RNAV (GPS) RWY 17, Orig-A

Tulsa, OK, Tulsa Intl, RNAV (GPS) Y RWY 18R, Amdt 1A

Tulsa, OK, Tulsa Intl, RNAV (RNP) Z RWY 18R, Orig

Tulsa, OK, Tulsa Intl, RNAV (RNP) Z RWY 26, Orig

Tulsa, OK, Tulsa Intl, Takeoff Minimums and Obstacle DP, Amdt 1

Eugene, OR, Mahlon Sweet Field, ILS OR LOC/DME RWY 16L, Amdt 1

Eugene, OR, Mahlon Sweet Field, RNAV (GPS) RWY 16L, Amdt 1

Corry, PA, Corry-Lawrence, RNAV (GPS) RWY 14, Amdt 1

Corry, PA, Corry-Lawrence, RNAV (GPS) RWY 32, Amdt 1

Pottsville, PA, Schuylkill County/Joe Zerbey, RNAV (GPS) RWY 11, Amdt 2

Pottsville, PA, Schuylkill County/Joe Zerbey, RNAV (GPS) RWY 29, Amdt 2

Chester, SC, Chester Catawba Rgnl, NDB RWY 35, Amdt 2

Chester, SC, Chester Catawba Rgnl, RNAV (GPS) RWY 17, Amdt 1

Chester, SC, Chester Catawba Rgnl, RNAV (GPS) RWY 35, Amdt 1

Austin, TX, Austin Executive, RNAV (GPS) RWY 13, Orig

Austin, TX, Austin Executive, RNAV (GPS) RWY 31, Orig

Austin, TX, Austin Executive, Takeoff Minimums and Obstacle DP, Orig

Houston, TX, Lone Star Executive, RNAV (GPS) RWY 1, Orig

Houston, TX, Lone Star Executive, RNAV (GPS) RWY 19, Orig

Houston, TX, Lone Star Executive, RNAV (GPS) RWY 32, Amdt 1

Houston, TX, Lone Star Executive, Takeoff Minimums and Obstacle DP, Amdt 3

Levelland TX, Levelland Muni, GPS RWY 17, Orig-A, CANCELLED

Levelland TX, Levelland Muni, GPS RWY 35, Orig-A, CANCELLED

Levelland TX, Levelland Muni, NDB RWY 17, Amdt 3

Levelland TX, Levelland Muni, NDB RWY 35, Amdt 2

Levelland TX, Levelland Muni, RNAV (GPS) RWY 17, Orig

Levelland TX, Levelland Muni, RNAV (GPS) RWY 35, Orig

San Marcos, TX, San Marcos Muni, Takeoff Minimums and Obstacle DP, Amdt 1

Wichita Falls, TX, Wichita Valley, Takeoff Minimums and Obstacle DP, Amdt 1

Bryce, UT, Bryce Canyon, BRYCE ONE Graphic Obstacle DP

Bryce, UT, Bryce Canyon, RNAV (GPS) RWY 3, Orig

Bryce, UT, Bryce Canyon, RNAV (GPS) RWY 21, Orig

Bryce, UT, Bryce Canyon, Takeoff Minimums and Obstacle DP, Orig

Petersburg, VA, Dinwiddie County, LOC RWY 5, Amdt 2, CANCELLED

Petersburg, VA, Dinwiddie County, LOC/NDB RWY 5, Orig

[FR Doc. 2010-18745 Filed 7-30-10; 8:45 am]

BILLING CODE 4910-13-P